DEPARTMENT OF AGRICULTURE

Animal and Plant Health Inspection Service

7 CFR Part 301

[Docket No. 01-093-3]

Mediterranean Fruit Fly; Removal of Quarantined Area

AGENCY: Animal and Plant Health Inspection Service, USDA.

ACTION: Affirmation of interim rule as final rule.

SUMMARY: We are adopting as a final rule, without change, an interim rule that amended the Mediterranean fruit fly regulations by removing a portion of Los Angeles County, CA, from the list of quarantined areas. The interim rule was necessary to relieve the restrictions that were no longer needed to prevent the spread of Mediterranean fruit fly to noninfested areas of the United States. As a result of the interim rule, there are no longer any areas in the continental United States quarantined because of the Mediterranean fruit fly.

EFFECTIVE DATE: The interim rule became effective on June 27, 2002.

FOR FURTHER INFORMATION CONTACT: Mr. Stephen A Knight, Senior Staff Officer, PPQ, APHIS, 4700 River Road Unit 134, Riverdale, MD 20737-1236; (301) 734-8247.

SUPPLEMENTARY INFORMATION:

Background

The Mediterranean fruit fly (Medfly) regulations contained in 7 CFR 301.78 through 301.78-10 (referred to below as the regulations) restrict the interstate movement of regulated articles from quarantined areas to prevent the spread of Medfly to noninfested areas of the United States.

In an interim rule effective June 27, 2002, and published in the Federal Register on July 3, 2002 (67 FR 44523-44524, Docket No. 01-093-2), we amended the regulations by removing a portion of Los Angeles County, CA, from the list of quarantined areas in § 301.78-3(c). The interim rule was necessary to relieve restrictions that were no longer needed to prevent the spread of Medfly to noninfested areas of the United States. As a result of that action, there are no longer any areas in the continental United States quarantined because of the Medfly.

Comments on the interim rule were required to be received on or before September 3, 2002. We did not receive any comments. Therefore, for the reasons given in the interim rule, we are adopting the interim rule as a final rule.

This action also affirms the information contained in the interim rule concerning Executive Orders 12866, 12372, and 12988, and the Paperwork Reduction Act.

Further, for this action, the Office of Management and Budget has waived its review under Executive Order 12866.

Regulatory Flexibility Act

This action affirms an interim rule that amended the Medfly regulations by removing a portion of Los Angeles County, CA, from the list of quarantined areas. The interim rule was necessary to relieve restrictions on interstate movement of regulated articles from that area.

The entities most likely to be affected are fruit sellers, nurseries, growers, packinghouses, certified farmers markets, and swapmeets. The area that we removed from the list of quarantined areas is a predominantly residential area with many apartment buildings. Available information indicates that there are no entities in the area that sell, process, handle, or move regulated articles interstate.

In the interim rule, we solicited comments, particularly those pertaining to the number and kind of small entities that may incur benefits or costs as a result of the action. We received no comments.

We therefore expect the effect of the interim rule on any affected entities should be minimally positive, as they will no longer be required to treat regulated articles to be moved interstate for Medfly.

For this reason, the termination of the quarantine on that portion of Los Angeles County, CA, should have only a minimal economic effect on any affected entities operating in this area. We anticipate that the economic effect of lifting the quarantine, though positive, will be no more significant than was the minimal effect of its imposition.

Under these circumstances, the Administrator of the Animal and Plant Health Inspection Service has determined that this action will not have a significant impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 67 FR 44523-44524 on July 3, 2002.

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 1st day of November 2002.
Peter Fernandez,
Acting Administrator, Animal and Plant Health Inspection Service.

[FR Doc. 02-28348 Filed 11-6-02; 8:45 am]

BILLING CODE 3410-34-P